FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General Advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans# | Acquiring | Acquired | Entities
Transactions Granted Early Termination—01/20/2004
20040369 | Henkel KGaA | Amitee Cosmetics, Inc. | Amitee Cosmetics, Inc., Henkel KGaA
20040374 | Comcast Corporation | Stephen E. Myers | Comcast Corporation, Stephen E. Myers, US Cable of Coastal-Texas L.P.
20040375 | Harvest Partners IV, L.P | BellSouth Corporation | BellSouth Corporation, Harvest Partners IV, L.P., NFIL Holdings Corp.
20040376 | Caxton Global Investments Limited | Norteck Holdings, Inc. | Caxton Global Investments Limited, Norteck Holdings, Inc., Ply Gem Industries, Inc.
20040378 | James Dimon | Bank One Corporation | Bank One Corporation, James Dimon
20040382 | Kellwood Company | Russell and Kimora Lee Simmons | Kellwood Company, Phat Fashions, LLC and Phat Licensing, LLC, Russell and Kimora Lee Simmons
20040386 | Harvest Partners IV, L.P | Transit Holdings, Inc. | Harvest Partners IV, L.P., Transit Holdings, Inc.
20040387 | Code Hennessy & Simmons IV, L.P | Gundle/SLT Environmental, Inc. | Code Hennessy & Simmons IV, L.P., Gundle/SLT Environmental, Inc.
Transactions Granted Early Termination—01/22/2004
20040335 | VeriSign, Inc. | Guardent, Inc. | Guardent, Inc., VeriSign, Inc.
20040343 | Canfor Corporation | Slocan Forest Products Ltd | Canfor Corporation, Slocan Forest Products Ltd.
20040381 | Royal Bank of Canada | William R. Hough & Co., Inc. | Royal Bank of Canada, William R. Hough & Co., Inc.
20040383 | Humana Inc. | Ochsner Clinic Foundation | Humana Inc., Ochsner Clinic Foundation, Ochsner Health Plan Interests Inc.
Transactions Granted Early Termination—01/27/2004
20040359 | 3M Company | HighJump Software, Inc. | 3M Company, HighJump Software, Inc.
20040392 | Teleglobe Holdings LLC | ITXC Corp. | ITXC Corp., Teleglobe Holdings LLC
20040394 | Comcast Corporation | TVMAX Holdings, Inc. | Comcast Corporation, TVMAX Colorado, Inc., TVMAX DFW, L.P., TVMAX Georgia Inc., TVMAX Holdings, Inc., TVMAX Miami, Inc., TVMAX N. California, Inc.,TVMAX Tampa, LLC
20040397 | Ford Motor Company | ZF Friedrichshafen AG | Ford Motor Company, AF Batavia, LLC, ZF Friedrichshafen AG
20040400 | Oak Hill Capital Partners, L.P | Duane Reade Inc. | Duane Reade Inc., Oak Hill Capital Partners, L.P.
20040401 | MBNA Corporation | Meriwest Credit Union | MBNA Corporation, Meriwest Credit Union
20040404 | Colony Resorts LVH Co-Investment Partners, L.P | Caesars Entertainment, Inc. | Caesars Entertainment, Inc., Colony Resorts LVH Co-Investment Partners, L.P., LVH Corporation
20040405 | AutoNation, Inc. | Steven Jerry Glauser | AutoNation, Inc., S.J. Glauser, Inc., Steven Jerry Glauser
Transactions Granted Early Termination—01/28/2004
20040361 | James A. Perdue, c/o Perdue Farms Incorporated | Cagle's, Inc. | Cagle's, Inc., James A. Perdue, c/o Perdue Farms Incorporated
20040367 | Valeant Pharmaceuticals International | Amarin Corporation plc | Amarin Corporation plc, Amarin Pharmaceuticals, Inc., Valeant Pharmaceuticals International
20040388 | OCM Principal Opportunities Fund II, L.P | Chart Industries, Inc. | Chart Industries, Inc., OCM Principal Opportunities Fund II, L.P.
Transactions Granted Early Termination—01/29/2004
20040364 | The First American Corporation | Pacific Northwest Title Holding Company | Pacific Northwest Title Holding Company, The First American Corporation
20040371 | EPIQ Systems, Inc. | P-D Holding Corp. | EPIQ Systems, Inc., P-D Holding Corp.
20040409 | Aber Diamond Corporation | Fenway Partners Capital Fund II, L.P | Aber Diamond Corporation, Fenway Partners Capital Fund II, L.P. HW Holdings, Inc.
Transactions Granted Early Termination—02/03/2004
20040399 | GTCR Fund VIII, L.P. | TSG3 L.P. | GTCR Fund VIII, L.P., Medtech Holdings, Inc., The Denorex Company, TSG3 L.P.
20040414 | Blackstone FC Communications Partners L.P | Freedom Communications, Inc. | Blackstone FC Communications Partners L.P., Freedom Communications, Inc.
20040415 | Providence Equity Partners IV L.P | Freedom Communications, Inc. | Freedom Communications, Inc., Providence Equity Partners IV L.P.
20040418 | Sir Frederick Barclay | Lord Black of Crossharbour | Hollinger, Inc., Lord Black of Crossharbour, Sir David Barclay
20040438 | Sir Frederick Barclay | Lord Black of Crossharbour | Hollinger, Inc., Lord Black of Crossharbour, Sir Frederick Barclay
Transactions Granted Early Termination—02/04/2004
20040407 | Pegasus Related Partners, L.P | Property Risk Services, LLC | Pegasus Related Partners, L.P., Property Risk Services, LLC
20040422 | Roto-Rooter, Inc. | Vitas Healthcare Corporation | Roto-Rooter, Inc., Vitas Healthcare Corporation
20040428 | SAVVIS Communications Corporation | Cable & Wireless plc | Cable & Wireless Internet Services, Inc., Cable & Wireless plc, Cable & Wireless USA, Inc., Cable & Wireless USA of Virginia, Inc., Exodus Communciations Real Property I, LLC, Exodus Communications Real Property I, LP, Exodus Communications Real Property Managers I, LLC, SAVVIS Communications Corporation
Transactions Granted Early Termination—02/05/2004
20040429 | DLJ Real Estate Capital Partners II, L.P | Lanter Company | DLJ Real Estate Capital Partners II, L.P., Lanter Company, Lanter Logistics, Inc., Lanter Refrigerated Distributing Co.
Transactions Granted Early Termination—02/06/2004
20040434 | Finisar Corporation | Honeywell International Inc. | Finisar Corporation, Honeywell Intellectual Properties, Inc., Honeywell International Inc.
20040435 | OCM Principal Opportunities Fund III, L.P. | Jacob M. Schorr | Jacob M. Schorr, OCM Principal Opportunities Fund III, L.P., Spirit Airlines, Inc.
20040436 | Penn National Gaming, Inc. | Shawn A. Scott | Bangor Historic Track, Inc., Penn National Gaming, Inc., Shawn A. Scott
20040437 | Myers Industries, Inc. | SKM Equity Fund II, L.P. | ATP Automotive, Inc., Myers Industries, Inc., SKM Equity Fund II, L.P.
20040439 | H.I.G. Capital Partners III, L.P | T-Netix, Inc. | H.I.G. Capital Partners III, L.P., T-Netix, Inc.
20040440 | White Mountain Insurance Group, Ltd | Sierra Health Services, Inc. | California Indemnity Insurance Company, Sierra Health Services, Inc., White Mountain Insurance Group, Ltd.
20040443 | Providence Equity Partners IV L.P | Lamco Communications, Inc. | Lamco Communications, Inc., Providence Equity Partners IV L.P.
20040444 | Homebase Acquisition, LLC | TXU Corp. | Homebase Acquisition, LLC, TXU Communications Ventures Company, TXU Corp.
20040446 | Merrill Lynch & Co., Inc. | ABN AMRO Holding N.V. | ABN AMRO Holding N.V., ABN AMRO Inc., Merrill Lynch & Co., Inc.
Transactions Granted Early Termination—02/09/2004
20040420 | Richard P. Kiphart | First Data Corporation | First Data Corporation, Richard P. Kiphart
20040441 | Charlesbank Equity Fund V, Limited Partnership | Duke Energy Corporation | Charlesbank Equity Fund V, Limited Partnership, Duke Energy Corporation, Duke Energy Field Services, LP
20040454 | Wells Fargo & Company | Jacobson Warehouse Company Employee Stock Ownership Plan | Jacobson Warehouse Company Employee Stock Ownership Plan, Jacobson Warehouse Company, Inc., Wells Fargo & Company
Transactions Granted Early Termination—02/11/2004
20030957 | Caremark Rx, Inc. | AdvancePCS | AdvancePCS, Caremark Rx, Inc.
20040389 | Societe Air France | Koninklijlke Luchtvaart Maatschappij N.V | KLM Royal Dutch Airlines, Koninklijlke Luchtvaart Maatschappij N.V., Societe Air France
20040393 | AMVESCAP PLC | SRIC HOLDING LLC | AMVESCAP PLC, SRIC HOLDING LLC, Stein Roe Investment Counsel LLC
20040453 | Pixiegrove Limited | ABB Ltd. | ABB Ltd., ABB Offshore Systems Inc., ABB Vetco Gray Inc., Pixiegrove Limited
Transactions Granted Early Termination—02/17/2004
20040402 | Advanced Fibre Communications, Inc. | Marconi Corporation PLC | Advanced Fibre Communications, Inc., Marconi Communications, Inc., Marconi Corporation PLC, Marconi Intellectual Property (Ringfence) Inc.
20040433 | Central Garden & Pet Company | Heritage Fund I, L.P. | Central Garden & Pet Company, Heritage Fund I, L.P., New England Pottery Co., Inc.
20040457 | Cofra Holding AG | Garden Fresh Restaurant Corp. | Cofra Holding AG, Garden Fresh Restaurant Corp.
20040459 | Riverside Forest Products Limited | John C. Kerr | John C. Kerr, Lignum Limited, Riverside Forest Products Limited
20040460 | Riverside Forest Products Limited | Timothy C. Kerr | Lignum Limited, Riverside Forest Products Limited, Timothy C. Kerr
20040461 | Willis Stein & Partners III, L.P | Brynwood Partners III L.P | Brynwood Partners III L.P., Lincoln Snacks Company, Willis Stein & Partners III, L.P.
20040464 | Wis-Pak, Inc. | Douglas C. Malmquist | Douglas C. Malmquist, M.B.C., Inc., Wis-Pak, Inc.
20040465 | Wind Point Partners V, L.P | Nonni's Food Company, Inc. | Nonni's food Company, Inc., Wind Point Partners V, L.P.
20040468 | Robert G. Miller | Sipex Corporation | Robert G. Miller, Sipex Corporation
20040469 | Blackstone Capital Partners (Cayman) IV L.P | Celanese AG | Blackstone Capital Partners (Cayman) IV L.P., Celanese AG
20040470 | Blackstone Capital Partners (Cayman) IV L.P | Blackstone Crystal Holdings Capital Partners (Cayman) IV Ltd | Blackstone Capital Partners (Cayman) IV L.P. Blackstone Crystal Holdings Capital Partners (Cayman) IV Ltd
20040471 | Blackstone Chemical Coinvest Partners (Cayman) L.P | Blackstone Crystal Holdings Capital Partners (Cayman) IV Ltd | Blackstone Chemical Coinvest Partners (Cayman) L.P. Blackstone Crystal Holdings Capital Partners (Cayman) IV Ltd
20040474 | Gilbert Global Equity Partners, L.P | Cornerstone Equity Investors IV, L.P | Cornerstone Equity Investors IV, L.P., Gilbert Global Equity Partners, L.P., True Temper Corporation
20040475 | WP FlexPack Holdings S.a.r.l. | Clondalkin Group Holdings Limited | Clondalkin Group Holdings Limited, WP FlexPack Holdings S.a.r.l.
20040486 | Telephone and Data Systems, Inc. Voting Trust | Telephone and Data Systems, Inc. Voting Trust | Telephone and Data Systems, Inc. Voting Trust, U.S. Cellular Telephone Company (Greater Knoxville), L.P.
20040487 | Verity, Inc. | Cardiff Software, Inc. | Cardiff Software, Inc., Verity, Inc.
Transactions Granted Early Termination—02/19/2004
20040342 | Vestas Wind Systems A/S | NEG Micon A/S | NEG Micon A/S, Vestas Wind Systems A/S
20040462 | Toshiba Corporation | Samsung Electronics Co., Ltd | Samsung Electronics Co., Ltd., Toshiba Corporation
20040479 | Peninsula Investment Partners, L.P | Marshall W. Pagon | Marshall W. Pagon, Pegasus Communications Corporation, Peninsula Investment Partners, L.P.

FOR FURTHER INFORMATION CONTACT: Sandra M. Peay, contact representative, or Renee Hallman, legal technician. Federal Trade Commission, Premerger Notification Office, Bureau of Competition, Room H-303, Washington, DC 20580; (202) 326-3100.

By direction of the Commission.

Donald S. Clark,
Secretary.

[FR Doc. 04-4767 Filed 3-2-04; 8:45 am]

BILLING CODE 6750-01-M